DEPARTMENT OF JUSTICE

Notice of Lodging of Consent Decree Under the Clean Air Act

Notice is hereby given that on July 10, 2007, a proposed Consent Decree in United States v. Casper's Electronics, Inc., Civil Action No. 1:06-cv-03542 (N.D. Illinois), was lodged with the United States District Court for the Northern District of Illinois Eastern Division. The proposed Consent Decree resolves the United States' claim under the Clean Air Act, 42 U.S.C. 7401 et seq., relating to the Defendant's manufacture and sale of oxygen sensor simulators, an automobile emission control defeat device. The Consent Decree requires the Defendant: to pay $74,383 to the United States in civil penalties; to cease the manufacture or sale of oxygen sensor simulators; to issue a recall for oxygen sensor simulators that it sold; and to destroy all oxygen sensor simulators that it possesses or obtains through the recall.

The Department of Justice will receive for a period of thirty (30) days from the date of this publication comments relating to the proposed Consent Decree. Comments should be addressed to the Assistant Attorney General, Environment and Natural Resources Division, and either e-mailed to pubcomment-ess.enrd@usdoj.gov or mailed to P.O. Box 7611, U.S. Department of Justice, Washington, DC 20044-7611, and should refer to United States v. Casper's Electronics, Inc., D.J. Ref. 90-5-2-1-08630.

The proposed Consent Decree may be examined at the Office of the United States Attorney, 219 S. Dearborn St., 5th Floor, Chicago, Illinois 60604. During the public comment period, the Consent Decree may also be examined on the following Department of Justice Web site, http://www.usdoj.gov/enrd/Consent_Decrees.html. A copy of the proposed Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation no. (202) 514-1547. In requesting a copy from the Consent Decree Library, please enclose a check in the amount of $7.75 (25 cents per page reproduction cost) payable to the “U.S. Treasury” or, if by e-mail or fax, forward a check in that amount to the Consent Decree Library at the stated address.

Karen Dworkin,
Assistant Chief, Environmental Enforcement Section, Environment and Natural Resources Division.

[FR Doc. 07-3494 Filed 7-18-07; 8:45 am]

BILLING CODE 4410-15-M